DEPARTMENT OF ENERGY

Federal Energy Regulatory Commission

[Docket No. RP00-362-000]

K N Wattenberg Transmission Limited Liability Company; Notice of Tariff Filing

July 6, 2000.

Take notice that on June 30, 2000, K N Wattenberg Transmission Limited Liability Company (KNW) tendered for filing as part of its FERC Gas Tariff, First Revised Volume No. 1, the tariff sheets listed on Appendix A to the filing, to become effective August 1, 2000.

In Docket No. RM96-1, the Commission has required that interstate pipelines communicate with their customers via the Internet. The purpose of this compliance filing is to make tariff changes entailed by that requirement and to incorporate the use of a new computer system as previously described in the Request for Extension of Time for KNW in Docket No. RM96-1-009, filed with the commission on May 24, 2000.

KNW requests that the Commission grant any other waivers of its regulations that the Commission may deem necessary to accept KNW's tariff sheet(s) to be effective August 1, 2000.

KNW states that copies of the filing were served upon KNW's jurisdictional customers, interested public bodies and all parties to the proceeding.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference room. This filing may be viewed on the web at http://www.ferc.fed.us/online/rims.htm (call 202-208-2222 for assistance).

David P. Boergers,
Secretary.

[FR Doc. 00-17555 Filed 7-11-00; 8:45 am]

BILLING CODE 6717-01-M